ENVIRONMENTAL PROTECTION AGENCY

40 CFR Part 194

[FRL-6909-4]

RIN 2060-AG85

Waste Characterization Program Documents Applicable to Transuranic Radioactive Waste From the Idaho National Engineering and Environmental Laboratory Proposed for Disposal at the Waste Isolation Pilot Plant

AGENCY: Environmental Protection Agency.

ACTION: Notice of availability; opening of public comment period.

SUMMARY: The Environmental Protection Agency (EPA, or “we”) is announcing the availability of, and soliciting public comments for 30 days on, Department of Energy (DOE) documents on waste characterization programs applicable to certain transuranic (TRU) radioactive waste at the Idaho National Engineering and Environmental Laboratory (INEEL) proposed for disposal at the Waste Isolation Pilot Plant (WIPP). The documents are: “Quality Assurance Project Plan for the Transuranic Waste Characterization Program (PLN-190), Revision 4 (March 2000),” “INEEL TRU Waste Characterization, Transportation, and Certification Quality Program Plan (PLN-182), Revision 4 (March 2000),” and “Program Plan for Certification of INEEL Contact-Handled Stored Transuranic Waste (PLN-579), Revision 0 (March 2000).” The documents are available for review in the public dockets listed in ADDRESSES. The EPA will use these documents to evaluate waste characterization systems and processes applicable to waste streams containing debris waste at INEEL, as requested by DOE. In accordance with EPA's WIPP Compliance Criteria, EPA will conduct an inspection of waste characterization systems and processes at INEEL the week of December 4, 2000, to verify that the proposed systems and processes at INEEL can characterize transuranic solid waste properly, consistent with the Compliance Criteria.

DATES: The EPA is requesting public comment on these documents. Comments must be received by EPA's official Air Docket on or before December 28, 2000.

ADDRESSES: Comments should be submitted to: Docket No. A-98-49, Air Docket, Room M-1500 (LE-131), U.S. Environmental Protection Agency, 401 M Street, SW., Washington, DC 20460.

The DOE documents “Quality Assurance Project Plan for the Transuranic Waste Characterization Program (PLN-190), Revision 4 (March 2000),” “INEEL TRU Waste Characterization, Transportation, and Certification Quality Program Plan (PLN-182), Revision 4 (March 2000),” and “Program Plan for Certification of INEEL Contact-Handled Stored Transuranic Waste (PLN-579), Revision 0 (March 2000),” are available for review in the official EPA Air Docket in Washington, D.C., Docket No. A-98-49, Category II-A-2, and at the following three EPA WIPP informational docket locations in New Mexico: in Carlsbad at the Municipal Library, Hours: Monday-Thursday, 10 am-9 pm, Friday-Saturday, 10 am-6 pm, and Sunday, 1 pm-5 pm; in Albuquerque at the Government Publications Department, General Library, University of New Mexico, Hours: vary by semester; and in Santa Fe at the New Mexico State Library, Hours: Monday-Friday, 9 am-5 pm.

Copies of items in the docket may be requested by writing to Docket A-98-49 at the address provided above, or by calling (202) 260-7548. As provided in EPA's regulations at 40 CFR part 2, and in accordance with normal EPA docket procedures, a reasonable fee may be charged for photocopying.

FOR FURTHER INFORMATION CONTACT: Scott Monroe, Office of Radiation and Indoor Air, (202) 564-9310, or call EPA's 24-hour, toll-free WIPP Information Line, 1-800-331-WIPP, or visit our website at http://www.epa.gov/radiation/wipp/announce.html.

SUPPLEMENTARY INFORMATION: The DOE is developing the WIPP near Carlsbad in southeastern New Mexico as a deep geologic repository for disposal of TRU radioactive waste. As defined by the WIPP Land Withdrawal Act (LWA) of 1992 (Public Law 102-579), as amended (Public Law 104-201), TRU waste consists of materials containing elements having atomic numbers greater than 92 (with half-lives greater than twenty years), in concentrations greater than 100 nanocuries of alpha-emitting TRU isotopes per gram of waste. Most TRU waste consists of items contaminated during the production of nuclear weapons, such as rags, equipment, tools, and organic and inorganic sludges.

On May 13, 1998, EPA announced its final compliance certification decision to the Secretary of Energy (published May 18, 1998, 63 FR 27354). This decision states that the WIPP will comply with the EPA's radioactive waste disposal regulations at 40 CFR part 191, subparts B and C.

The final WIPP certification decision includes a condition that prohibits shipment of TRU waste for disposal at WIPP from any site other than LANL until EPA has approved the procedures developed to comply with the waste characterization requirements of § 194.24(c)(4) (condition 3 of appendix A to 40 CFR part 194). The EPA's approval process for waste generator sites is described in § 194.8. As part of EPA's decision making process, DOE is required to submit to EPA appropriate documentation of waste characterization programs at each DOE waste generator site seeking approval for shipment of TRU radioactive waste to WIPP. In accordance with § 194.8, EPA will place such documentation in the official Air Docket in Washington, D.C., and in informational dockets in the State of New Mexico, for public review and comment.

We initially approved certain waste characterization processes at INEEL following an inspection on July 28-30, 1998. EPA's approvals of INEEL to date have limited the applicability of the approved waste characterization processes and systems to debris wastes. DOE is proposing to apply the processes that EPA inspected and approved for debris wastes to solid waste streams as well. We will conduct an inspection of INEEL to verify that these additional waste streams can be characterized in compliance with 40 CFR 194.24.

The INEEL documents submitted to EPA are: “Quality Assurance Project Plan for the Transuranic Waste Characterization Program (PLN-190), Revision 4 (March 2000),” “INEEL TRU Waste Characterization, Transportation, and Certification Quality Program Plan (PLN-182), Revision 4 (March 2000),” and “Program Plan for Certification of INEEL Contact-Handled Stored Transuranic Waste (PLN-579), Revision 0 (March 2000).” The “Quality Assurance Project Plan for the Transuranic Waste Characterization Program (PLN-190), Revision 4 (March 2000)” and the “INEEL TRU Waste Characterization, Transportation, and Certification Quality Program Plan (PLN-182), Revision 4 (March 2000)” set forth the quality assurance program applied to TRU waste characterization at INEEL. The “Program Plan for Certification of INEEL Contact-Handled Stored Transuranic Waste (PLN-579), Revision 0 (March 2000)” sets forth the waste characterization procedures for TRU wastes at INEEL. We will conduct an inspection of INEEL the week of December 4, 2000, to determine whether the requirements set forth in these documents are being adequately implemented in accordance with Condition 3 of the EPA's WIPP certification decision (appendix A to 40 CFR part 194). In accordance with § 194.8 of the WIPP compliance criteria, we are providing the public 30 days to comment on the documents placed in EPA's docket relevant to the site approval process. Because the inspection will occur during the comment period, we will respond to relevant comments received prior to, during, and after the inspection.

If EPA determines that the provisions in the documents are adequately implemented, we will notify DOE by letter and place the letter in the official Air Docket in Washington, D.C., and in the informational docket locations in New Mexico. A positive approval letter will allow DOE to ship additional TRU waste from INEEL. We will not make a determination of compliance prior to the inspection or before the 30-day comment period has closed.

Information on EPA's radioactive waste disposal standards (40 CFR part 191), the compliance criteria (40 CFR part 194), and EPA's certification decision is filed in the official EPA Air Docket, Dockets No. R-89-01, A-92-56, and A-93-02, respectively, and is available for review in Washington, D.C., and at the three EPA WIPP informational docket locations in New Mexico. The dockets in New Mexico contain only major items from the official Air Docket in Washington, D.C., plus those documents added to the official Air Docket after the October 1992 enactment of the WIPP LWA.

Dated: November 21, 2000.
Robert Perciasepe,
Assistant Administrator for Air and Radiation.

[FR Doc. 00-30416 Filed 11-27-00; 8:45 am]

BILLING CODE 6560-50-U